DEPARTMENT OF THE TREASURY

Submission for OMB Review; Comment Request

October 17, 2014.

The Department of the Treasury will submit the following information collection requests to the Office of Management and Budget (OMB) for review and clearance in accordance with the Paperwork Reduction Act of 1995, Public Law 104-13, on or after the date of publication of this notice.

DATES: Comments should be received on or before November 21, 2014 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Number: 1545-0988.

Type of Review: Extension without change of a currently approved collection.

Title: Form 8609, Low-Income Housing Credit Allocation Certification; Form 8609-A, Annual Statement for Low-Income Housing Credit.

Form: 8609, 8609-A.

Abstract: Owners of residential low-income rental buildings may claim a low-income housing credit for each qualified building over a 10-year credit period. Form 8609 can be used to obtain a housing credit allocation from the housing credit agency. Form 8609, along with Form 8609-A, is used by the owner to certify necessary information required by the law.

Affected Public: Businesses or other for-profits; State, local, or tribal governments.

Estimated Annual Burden Hours: 4,090,332.

OMB Number: 1545-1485.

Type of Review: Extension without change of a currently approved collection.

Title: T.D. 8743, Sale of Residence From Qualified Personal Residence Trust.

Abstract: TD 8743 contains final regulations permitting the reformation of a personal residence trust or a qualified personal residence trust in order to comply with the applicable requirements for such trusts. The final regulations also provide that the governing instruments of such trusts must prohibit the sale of a residence held in the trust to the grantor of the trust, the grantor's spouse, or an entity controlled by the grantor or the grantor's spouse. 26 CFR 25.2702-5(a)(2)

Affected Public: Individuals or households.

Estimated Annual Burden Hours: 625.

OMB Number: 1545-1914.

Type of Review: Revision of a currently approved collection.

Title: Low Sulfur Diesel Fuel Production Credit.

Form: 8896.

Abstract: Qualified small business refiners use Form 8896 to claim the low sulfur diesel fuel production credit. The credit generally is 5 cents for every gallon of low sulfur diesel fuel produced.

Affected Public: Businesses or other for-profits.

Estimated Annual Burden Hours: 260.

Brenda Simms,
Treasury PRA Clearance Officer.

[FR Doc. 2014-25109 Filed 10-21-14; 8:45 am]

BILLING CODE 4830-01-P